DEPARTMENT OF DEFENSE

Department of the Army; Corps of Engineers

Intent To Prepare a Draft Environmental Impact Statement for Coastal Storm Damage Reduction, Barrow, AK

AGENCY: Department of the Army, U.S. Army Corps of Engineers, DoD.

ACTION: Notice of intent.

SUMMARY: The U.S. Army Engineer District, Alaska, intends to prepare a Draft Environmental Impact Statement (DEIS) for the construction of coastal storm damage reduction measures at Barrow, AK. The city of Barrow is an isolated community on the Arctic Ocean at the northern tip of Alaska. Barrow is the economic center for the North Slope Borough with a population of 4,400 residents, the majority of which are Inupiat Eskimo. The community infrastructure at risk from storm damage, shoreline erosion, and flooding consists of roads, a utilidor, a sewage lagoon, and a landfill site.

The utilidor stretches more than 3 miles and contains sewage, water, and power lines, and communication facilities for the community. Beach erosion threatens over 1 mile of the utilidor and a low-lying beach road that separates Barrow's sewage lagoon and an old landfill from the sea.

FOR FURTHER INFORMATION CONTACT: Lizette Boyer (907) 753-2637, Alaska District, U.S. Corps of Engineers, Environmental Resources Section (CEPOA-EN-CW-ER), P.O. Box 6898, Elmendorf AFB, AK 99506-6898. E-mail: Lizette.P.Boyer@poa02.usace army.mil.

SUPPLEMENTARY INFORMATION: The DEIS will consider alternatives including the placement of sands and gravels suitable for beach nourishment along approximately 5 miles of beach, elevation of coastal roadways, and other structural and non-structural alternatives identified during scoping. The initial nourishment would require a large quantity of material. Viable borrow sources have not been identified. However, nearby Elson Lagoon could have suitable material and will be investigated as a borrow alternative. Excavation of borrow material from Elson Lagoon may have a dual purpose of creating a needed navigation channel for lightering barges and harboring local boats. Other borrow alternatives will be investigated.

Issues: Construction and gravel extraction for beach nourishment and other alternatives could affect protected wildlife. One of the structural constraints in developing storm damage reduction measures for Barrow is the need to identify an adequate source of sand and gravel (about 4 million cubic yards) within an economic transport range of the project site. The DEIS will consider the needs of the community to protect their infrastructure and the need to avoid significant adverse impacts to critical arctic environmental and traditional subsistence activities. The Barrow area is one of the remaining areas in Alaska where the threatened Steller's eider and spectacled eider sea ducks are known to nest. Elson Lagoon is highly productive for fish and waterfowl. Polar bears, seals, walruses, and beluga and bowhead whales are found in near shore waters at different times of the year. One known archeological site is along Elson Lagoon, but the Chukchi Seas coastline has many archeological artifacts that continue to be uncovered. The DEIS will consider impacts to marine intertidal and subtidal communities, fish and wildlife, wetlands, threatened and endangered species, essential fish habitat, water quality, cultural resources, socio-economic resources, justifiable and practicable mitigation, and other resources and concerns identified through scoping, public involvement, and interagency coordination.

Scoping: A copy of this notice and additional public information will be sent to interested parties to initiate scoping. All parties are invited to participate in the scoping process by identifying any additional concerns, issues, studies, and alternatives that should be considered. A scoping meeting will be held in June 2003 in Barrow, Alaska, at a place and time to be announced. The DEIS is estimated for release in spring 2007.

Guy R. McConnell,
Chief, Environmental Resources Section.

[FR Doc. 03-9467 Filed 4-16-03; 8:45 am]

BILLING CODE 3710-NL-M